DEPARTMENT OF COMMERCE

Bureau of Industry and Security

[Docket No. 250331-0058]

XRIN 0694-XC118

Implementation of Duties on Aluminum Derivatives Beer and Empty Aluminum Cans Pursuant to Proclamation 10895 Adjusting Imports of Aluminum Into the United States

AGENCY: Bureau of Industry and Security, Department of Commerce.

ACTION: Notice.

SUMMARY: The President issued Proclamation 10895, “Adjusting Imports of Aluminum into the United States” (Aluminum Presidential Proclamation), on February 10, 2025, imposing specified rates of duty on imports of aluminum. In Proclamation 10895, the President authorized and directed the Secretary of Commerce to publish modifications to the Harmonized Tariff Schedule of the United States (HTSUS) so that it conforms to the amendments and effective dates in the proclamation. The Bureau of Industry and Security (BIS) published the notice, Implementation of Duties on Aluminum Pursuant to Proclamation 10895 Adjusting Imports of Aluminum Into the United States, on behalf of the Secretary of Commerce on March 5, 2025, that fulfilled this directive. The revised HTSUS was set out in Annex 1 to the March 5 notice. BIS, in this notice, revises Annex 1 to add two additional aluminum derivative products: beer and empty aluminum cans.

DATES: Aluminum derivatives added to the annex in this notice: The duties set out in the annex for these additional aluminum derivatives are effective with respect to certain products that are entered for consumption, or withdrawn from warehouse for consumption, on or after 12:01 a.m. Eastern Time on April 4, 2025.

SUPPLEMENTARY INFORMATION:

Background

On February 10, 2025, the President issued the Aluminum Presidential Proclamation adjusting imports of aluminum into the United States (Proclamation 10895 of February 10, 2025) (90 FR 9807). The Aluminum Presidential Proclamation instructed the United States International Trade Commission, in consultation with the Secretary of Commerce, the Commissioner of United States Customs and Border Protection (CBP) within the Department of Homeland Security, and the heads of other relevant executive departments and agencies, to revise the HTSUS so that it conforms to the amendments and effective dates directed in the Aluminum Presidential Proclamation within ten days of the issuance of the Proclamation. The Proclamation directed and authorized the Secretary of Commerce to publish any such modifications to the HTSUS in the Federal Register. BIS published such modifications in Annex 1 to the notice, Implementation of Duties on Aluminum Pursuant to Proclamation 10895 Adjusting Imports of Aluminum Into the United States, on behalf of the Secretary of Commerce on March 5, 2025 (90 FR 11251).

BIS in this notice revises Annex 1 to add the following two additional aluminum derivative products in Annex 1:

(1) beer; and

(2) empty aluminum cans.

All other tariff codes for aluminum and aluminum derivative products in Annex 1 remain unchanged.

Note that importers are required to report to U.S. Customs and Border Protection (CBP) the primary country of smelt, secondary country of smelt, and country of cast on imports of all aluminum articles subject to the aluminum and aluminum derivatives section 232 measures. Monitor CBP's Cargo Systems Messaging Service for guidance on entry filing requirements.

Eric Longnecker,
Deputy Assistant Secretary for Technology Security.

Annex 1

A. Effective with respect to goods entered for consumption, or withdrawn from warehouse for consumption, on or after 12:01 a.m. eastern daylight time on April 4, 2025, subchapter III of chapter 99 is modified:

a. By amending note 19(j) by inserting “7612.90.10” to the list of HTSUS provisions in numerical order.

b. By amending note 19(k) by inserting “2203.00.00” to the list of HTSUS provisions in numerical order.

[FR Doc. 2025-05884 Filed 4-2-25; 11:15 am]

BILLING CODE 3510-33-P